DEPARTMENT OF COMMERCE

International Trade Administration

[A-475-818, A-489-805]

Certain Pasta From Italy and Turkey: Extension of Final Results of Antidumping Duty Administrative Reviews

AGENCY: Import Administration, International Trade Administration, Department of Commerce.

EFFECTIVE DATE: December 2, 2002.

FOR FURTHER INFORMATION CONTACT: Mark Young at (202) 482-6397, Office of AD/CVD Enforcement VI, Group II, Import Administration, International Trade Administration, U.S. Department of Commerce, 14th Street and Constitution Ave, NW, Washington, DC 20230.

Time Limits

Statutory Time Limits

Section 751(a)(3)(A) of the Tariff Act of 1930, as amended (the Act), requires the Department to issue: (1) The preliminary results of a review within 245 days after the last day of the month in which occurs the anniversary of the date of publication of an order or finding for which a review is requested, and (2) the final results within 120 days after the date on which the preliminary results are published. However, if it is not practicable to complete the review within that time period, section 751(a)(3)(A) of the Act allows the Department to extend the time limit for the preliminary results to a maximum of 365 days and the final results to a maximum of 180 days (or 300 days if the Department does not extend the time limit for the preliminary results) from the date of the publication of the preliminary results.

Background

On August 20, 2001, the Department published a notice of initiation of the administrative reviews of the antidumping duty orders on certain pasta from Italy and Turkey, covering the period July 1, 2000 to June 30, 2001 (66 FR 43570). On August 7, 2002, and August 9, 2002, the Department issued the preliminary results of certain pasta from Turkey (67 FR 51194 ) and Italy (67 FR 51827), respectively. The final results are currently due no later than December 5, 2002, for Turkey and December 9, 2002, for Italy.

Extension of Final Results of Reviews

We determine that it is not practicable to complete the final results of these reviews within the original time limits, for reasons stated in the Decision Memorandum from Melissa Skinner to Bernard Carreau, dated November 22, 2003, which is on file in the Central Records Unit, B-099 of the main Commerce Building. Therefore, we are extending the final results deadlines in each of the above-referenced reviews until February 3, 2003.

This extension is in accordance with section 751(a)(3)(A) of the Act.

Dated: November 25, 2002.
Bernard Carreau,
Deputy Assistant Secretary for Import Administration.

[FR Doc. 02-30460 Filed 11-29-02; 8:45 am]

BILLING CODE 3510-DS-P